DEPARTMENT OF ENERGY

Federal Energy Regulatory Commission

[Docket No. RP96-190-015]

Colorado Interstate Gas Company; Notice of Compliance Filing

February 11, 2000.

Take notice that on February 8, 2000, Colorado Interstate Gas Company (CIG) filed an Annual Report of Revenue Credits pursuant to the Stipulation and Agreement (S&A) in Docket No. RP96-190-000, filed August 27, 1997 and accepted by Commission Letter Order dated October 16, 1997.

CIG's S&A states in Section 1.13 CIG shall file an annual report no later than February 15th containing the amount of negotiated rate revenues, negotiated rate revenue credits and interruptible storage revenue credits it has distributed pursuant to the S&A for each twelve month period beginning October 1, 1996.

CIG has no contracts under negotiated rates for the period October 1, 1998 through September 30, 1999. CIG's Interruptible Storage Revenue Credits have been included in the firm shippers' January 2000 invoices pursuant to CIG's FERC Gas Tariff First Revised Volume No. 1, Article 33.

CIG states that copies of this filing have been served on each shipper listed on Schedule A of the filing.

Any person desiring to protest said filing should file a protest with the Federal Energy Regulatory Commission, 888 First Street, NE, Washington, DC 20426, in accordance with Section 385.211 of the Commission's Rules and Regulations. All such protests must be filed on or before February 18, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-3765 Filed 2-16-00; 8:45 am]

BILLING CODE 6717-01-M